DEFENSE NUCLEAR FACILITIES SAFETY BOARD

10 CFR Part 1709

[Docket No. DNFSB-2023-01]

Debt Collection Procedures

AGENCY: Defense Nuclear Facilities Safety Board.

ACTION: Direct final rule.

SUMMARY: The Debt Collection Act, as amended, requires federal agencies to either adopt existing regulations or promulgate their own regulations governing the collection of debts owed to the federal government. The Defense Nuclear Facilities Safety Board (Board) is a federal agency and has decided to adopt the regulations jointly issued by the Treasury Department and the Department of Justice.

DATES: This final rule is effective October 10, 2023 unless significant adverse comments are received by August 10, 2023. If the Board withdraws the direct final rule as a result of such comments, it will publish a timely notice of the withdrawal in the Federal Register.

ADDRESSES: You may submit comments at any time prior to the comment deadline by the following methods:

Email: Send an email to comment@dnfsb.gov. Please include “Debt Collection Comments” in the subject line of your email.

Mail: Send hard copy comments to the Defense Nuclear Facilities Safety Board, Attn: Office of the General Counsel, 625 Indiana Avenue NW, Suite 700, Washington, DC 20004-2901.

FOR FURTHER INFORMATION CONTACT: Patricia A. Hargrave, Associate General Counsel, Defense Nuclear Facilities Safety Board, 625 Indiana Avenue NW, Suite 700, Washington, DC 20004-2901, (202) 694-7000.

SUPPLEMENTARY INFORMATION:

I. Background

The Board is promulgating new regulations to implement the Debt Collection Act (DCA), as amended, 31 U.S.C. 3701, et seq. The DCA governs the federal government's debt collection activities. In accordance with this law, the Treasury Department and the Department of Justice jointly promulgated Federal Claims Collection Standards (FCCS), 31 CFR parts 900 through 904. Agencies may adopt the FCCS without change or may prescribe agency regulations for collecting debts by administrative offset that are consistent with the FCCS. 31 U.S.C. 3716. These regulations are required before an agency may collect a debt by administrative offset. In this proposed direct final rule, the Board adopts the FCCS without change.

II. Regulatory Analysis

Regulatory Flexibility Act

Under the Regulatory Flexibility Act, 5 U.S.C. 601-612, agencies must consider the impact of their rulemakings on “small entities” (small businesses, small organizations, and local governments) when publishing regulations subject to the notice and comment requirements of the Administrative Procedure Act. As noted in section III. Rulemaking Procedure below, the Board has determined that notice and the opportunity to comment are unnecessary because this rulemaking constitutes a noncontroversial adoption of promulgated federal regulations as allowed by federal law. Therefore, no analysis is required by the Regulatory Flexibility Act.

Unfunded Mandates Reform Act of 1995

This rule will not result in the expenditure by State, local, and tribal governments, in aggregate, or by the private sector, of $100,000,000 or more in any one year, and it will not significantly or uniquely affect small governments. Therefore, no actions are deemed necessary under the provisions of the Unfunded Mandates Reform Act of 1995.

Small Business Regulatory Enforcement Fairness Act of 1996

This rule is not a major rule as defined by section 251 of the Small Business Regulatory Enforcement Fairness Act of 1996, as amended, 5 U.S.C. 804. This rule will not result in an annual effect on the economy of $100,000,000 or more; a major increase in costs or prices; or significant adverse effects on competition, employment, investment, productivity, innovation, or on the ability of United States-based companies to compete with foreign-based companies in domestic and export markets.

Paperwork Reduction Act

This rule contains no new reporting or recordkeeping requirements under the Paperwork Reduction Act (PRA) of 1995, 44 U.S.C. 3501 et seq. This adoption of the FCCS does not require or request information from members of the public. Therefore, this rulemaking is not covered by the restrictions of the PRA.

Executive Order 12988 and Executive Order 13132—Federalism

According to Executive Orders 12988 and 13132, agencies must state in clear language the preemptive effect, if any, of new regulations. The creation of a direct final rule affects only how the Board collects debts owed to the government, and therefore, has no effect on preemption of State, tribal, or local government laws or otherwise have federalism implications.

Congressional Review Act

The Congressional Review Act, 5 U.S.C. 801 et seq., provides that before a rule may take effect, the agency promulgating the rule must submit a rule report, which includes a copy of the rule, to each house of the Congress and to the Comptroller General of the United States. If the rule meets the definition of a major rule, the Comptroller General must provide a report to Congress and the rule may not take effect until 60 days after it has been published in the Federal Register. The Office of Information and Regulatory Affairs has designated this rule as not a major rule, as defined by 5 U.S.C. 804(2). The Board is submitting the rule report to Congress and the Comptroller General of the United States.

Finding of No Significant Environmental Impact

Implementing these regulations will not result in significant impacts affecting the quality of the human environment, unavoidable adverse environmental effects, rejection of reasonable alternatives to the proposed action, or irreversible or irretrievable commitments of environmental resources. The agency has not consulted with any other agencies in making this determination.

Executive Order 12866—Regulatory Planning and Review

Executive Order 12866 requires federal agencies submit significant regulatory actions to the Office of Management of Budget. This rule is not significant and will not have a significant impact on small entities. This rule streamlines debt collection and only adopts procedures allowed by statute.

III. Rulemaking Procedure

The Board is publishing this rule without a prior proposal because it is an adoption of existing, promulgated rules, and the Board does not anticipate any significant adverse public comments. This rule will become effective on October 10, 2023. However, if the Board receives a significant adverse comment by August 10, 2023, then the Board will publish a notice in the Federal Register withdrawing this rule and publishing the changes as a notice of proposed rulemaking. The Board will respond to the significant adverse comment(s) in that notice of proposed rulemaking and take an additional 30 days of comments before publishing any final rule. If no significant adverse comment is received, the Board will publish a confirmation of the effective date of this direct final rule.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the Board staff to reevaluate (or reconsider) its position or conduct additional analysis;

(b) The comment raises an issue serious enough to warrant a substantive response to clarify or complete the record; or

(c) The comment raises a relevant issue that was not previously addressed or considered by the Board;

(2) The comment proposes a change or an addition to the rule, and it is apparent that the rule would be ineffective or unacceptable without incorporation of the change or addition; or

(3) The comment causes the Board to make a change (other than editorial) to the rule.

List of Subjects in 10 CFR Part 1709

Debts, Claims.

For the reasons described in the preamble, the Board amends title 10, Code of Federal Regulations, chapter XVII, by adding part 1709 to read as follows:

Chapter XVII Defense Nuclear Facilities Safety Board

PART 1709—DEBT COLLECTION PROCEDURES

Sec.
1709.101 Cross-reference to executive branch-wide debt collection regulations.

Authority: 31 U.S.C. 3716(b); 31 U.S.C. 3711(d)(2); 31 CFR parts 900 through 904.

§ 1709.101 Cross-reference to executive branch-wide debt collection regulations.

The Defense Nuclear Facilities Safety Board adopts the regulations at 31 CFR parts 900 through 904 governing the administrative collection, offset, compromise, and the suspension or termination of collection activity for debts or civil claims for money, funds or property owed to the United States government as defined by 31 U.S.C. 3701(b).

Dated: June 28, 2023.
Joyce Connery,
Chairperson.

[FR Doc. 2023-14150 Filed 7-10-23; 8:45 am]

BILLING CODE P